DEPARTMENT OF DEFENSE

Office of the Secretary

Renewal of Department of Defense Federal Advisory Committee; Board of Visitors of the U.S. Air Force Academy

AGENCY: Department of Defense (DoD).

ACTION: Renewal of Federal advisory committee.

SUMMARY: Under the provisions of 10 U.S.C. 9355, the Federal Advisory Committee Act of 1972, (5 U.S.C. Appendix), the Government in the Sunshine Act of 1976 (5 U.S.C. 552b), and 41 CFR 102-3.50, the Department of Defense gives notice that it is renewing the charter for the Board of Visitors of the U.S. Air Force Academy (hereafter referred to as the “Board”).

FOR FURTHER INFORMATION CONTACT: Jim Freeman, Deputy Committee Management Officer for the Department of Defense, 703-601-6128.

SUPPLEMENTARY INFORMATION: The Board is a non-discretionary Federal advisory committee established to provide independent advice and recommendation to the Secretary of the Defense, through the Secretary of the Air Force, and to the Committee on Armed Services of the Senate and the Committee on Armed Services of the House of Representatives, relating to the U.S. Air Force Academy, to include morale, discipline, and social climate, the curriculum, instruction, physical equipment, fiscal affairs, academic methods, and other matters relating to the Academy that the Board decides to consider.

The Board shall prepare a semiannual report containing its views and recommendations pertaining to the U.S. Air Force Academy, based on its meeting since the last such report and any other considerations it determines relevant. Each such report shall be submitted concurrently to the Secretary of Defense, through the Secretary of the Air Force, and to the Committee on Armed Services of the Senate and Committee on Armed Services of the House of Representatives.

The Board is constituted annually, and it shall be composed of not more than fifteen members. Under the provisions of 10 U.S.C. 9355(a) and (b)(2), the Board members shall include:

a. Six persons designated by the President, at least two of whom shall be graduates of the U.S. Air Force Academy;

b. The chairman of the Committee on Armed Services of the House of Representatives, or his designee;

c. Four persons designated by the Speaker of the House of Representatives, three of whom shall be members of the House of Representatives and the fourth of whom may not be a member of the House of Representatives;

d. The chairman of the Committee on Armed Services of the Senate, or his designee.

e. Three other members of the Senate designated by the Vice president or the President pro tempore of the Senate, two of whom are members of the Committee on Appropriations of the Senate.

The Board members referenced in (a) above, designated by the President, shall serve for three years except that any member whose term of office has expired shall continue to serve until a successor is appointed. In addition, the President shall designate persons each year to succeed the members referenced in (a) above whose terms expire that year.

The Board members shall select the Board Chairperson and Vice Chairperson from the total membership.

If a member of the Board dies or resigns or is terminated as a member of the Board, a successor shall be designated for the unexpired portion of the term by the official who designated the member.

Each member of the Board who is a member of the Armed Forces or a civilian officer or employee of the United States shall serve without compensation (other than compensation to which entitled as a member of the Armed Forces or an officer or employee of the United States, respectively). Individuals appointed by the President shall receive no compensation for their service on the Board. While performing duties as a member of the Board, each member of the Board and each adviser shall be reimbursed under Government travel regulations for travel expenses.

If a member of the Board fails to attend two successive Board meetings, except in a case in which an absence is approved in advance for good cause by the Board chairperson, such failure shall be grounds for termination from membership on the Board, pursuant to 10 U.S.C. 9355(c)(2)(A) (“absenteeism provision”).

Termination of membership on the Board pursuant to the absenteeism provision, in the case of a member of the Board who is not a member of Congress, may be made by the Board's chairperson; and in the case of a member of the Board who is a member of Congress, may be made only by the official who designated the member. When the member of the board is subject to termination from membership on the Board under the absenteeism provision, the Board's chairperson shall notify the official who designated the member. Upon receipt of such a notification with respect to a member of the Board who is a member of Congress, the official who designated the member shall take such action, as that official considers appropriate.

Upon approval by the Secretary of the Air Force, the Board, pursuant to 10 U.S.C. 9355(g), may call in advisers for consultation. These advisors shall, with the exception of travel and per diem for official travel, serve without compensation.

With DOD approval, the Board is authorized to establish subcommittees, as necessary and consistent with its mission. These subcommittees shall operate under the provisions of the Federal Advisory Committee Act of 1972, the Government in the Sunshine Act of 1976 (5 U.S.C. 552b, and other governing Federal policies and regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed by the Secretary of Defense according to governing DoD policy and procedures. Such individuals, if not full-time or part-time government employees, shall be appointed to serve as experts and consultants under the authority of 5 U.S.C. 3109, and serve as special government employees, whose appointments must be renewed on an annual basis.

The Board shall meet at the call of the Designated Federal Officer, in consultation with the Board's Chairperson. The estimated number of Board meetings is at least four per year, with at least two of those meetings at the Academy.

The Designated Federal Officer, pursuant to DoD policy, shall be a full-time or permanent part-time DoD employee, and shall be appointed in accordance with governing DoD policies and procedures.

In addition, the Designated Federal Officer is required to be in attendance for the full duration at all Board and subcommittee meetings, however, in the absence of the Designated Federal Officer, an Alternate Designated Federal Officer shall attend entire Board or subcommittee meeting.

Pursuant to 41 CFR 102-3.105(j) and 102-3.140, the public or interested organizations may submit written statements to the Board of Visitors of the U.S. Air Force Academy membership about the Board's mission and functions. Written statements may be submitted at any time or in response to the stated agenda of planned meeting of the Board of Visitors of the U.S. Air Force Academy.

All written statements shall be submitted to the Designated Federal Officer for the Board of Visitors of the U.S. Air Force Academy, and this individual will ensure that the written statements are provided to the membership for their consideration. Contact information for the Board of Visitors of the U.S. Air Force Academy Designated Federal Officer can be obtained from the GSA's FACA Database— https://www.fido.gov/facadatabase/public.asp.

The Designated Federal Officer, pursuant to 41 CFR 102-3.150, will announce planned meetings of the Board of Visitors of the U.S. Air Force Academy. The Designated Federal Officer, at that time, may provide additional guidance on the submission of written statements that are in response to the stated agenda for the planned meeting in question.

Dated: October 20, 2010.
Mitchell S. Bryman,
Alternate OSD Federal Register Liaison Officer, Department of Defense.

[FR Doc. 2010-26836 Filed 10-22-10; 8:45 am]

BILLING CODE 5001-06-P